DEPARTMENT OF ENERGY

10 CFR Chs. II, III, and X

48 CFR Ch. 9

Semiannual Regulatory Agenda

AGENCY: Department of Energy.

ACTION: Notice of semiannual regulatory agenda.

SUMMARY: The Department of Energy (DOE) has prepared and is making available its portion of the semiannual Unified Agenda of Federal Regulatory and Deregulatory Actions (Agenda) pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy Act of 2005, the Energy Independence and Security Act of 2007, and programmatic needs of DOE offices.

The Internet is the basic means for disseminating the Agenda and providing users the ability to obtain information from the Agenda database. DOE's entire spring 2013 Agenda can be accessed online by going to: www.reginfo.gov. Agenda entries reflect the status of activities as of approximately July 31, 2013.

Publication in the Federal Register is mandated by the Regulatory Flexibility Act (5 U.S.C. 602) only for Agenda entries that require either a regulatory flexibility analysis or periodic review under section 610 of that Act. DOE's regulatory flexibility agenda is made up of five rulemakings setting either energy efficiency standards or test procedures for the following products:

Battery chargers and external power supplies (energy efficiency standards)

Commercial Refrigeration Equipment (energy efficiency standards)

Distribution Transformers (energy efficiency standards)

Residential refrigerators, refrigerator-freezers, and freezers (test procedures)

Walk-in coolers and freezers (energy efficiency standards)

Signed in Washington, DC on June 26, 2013.
Gregory H. Woods,
General Counsel.

Energy Efficiency and Renewable Energy—Proposed Rule Stage
Sequence No. | Title | Regulation Identifier No.
126 | Energy Conservation Standards for Walk-In Coolers and Walk-In Freezers | 1904-AB86
127 | Energy Conservation Standards for Commercial Refrigeration Equipment | 1904-AC19
128 | Test Procedures for Residential Refrigerators, Refrigerator-Freezers, and Freezers | 1904-AC76

Energy Efficiency and Renewable Energy—Final Rule Stage
Sequence No. | Title | Regulation Identifier No.
129 | Energy Efficiency Standards for Battery Chargers and External Power Supplies | 1904-AB57

Energy Efficiency and Renewable Energy—Completed Actions
Sequence No. | Title | Regulation Identifier No.
130 | Energy Efficiency Standards for Distribution Transformers | 1904-AC04

DEPARTMENT OF ENERGY (DOE)

Energy Efficiency and Renewable Energy (EE)

Proposed Rule Stage

126. Energy Conservation Standards for Walk-in Coolers and Walk-in Freezers

Legal Authority: 42 U.S.C. 6313(f)(4)

Abstract: The Energy Independence and Security Act of 2007 amendments to the Energy Policy and Conservation Act require that DOE establish maximum energy consumption levels for walk-in coolers and walk-in freezers and directs the Department of Energy to develop energy conservation standards that are technologically feasible and economically justified.

Timetable:

Action | Date | FR Cite
Notice: Public Meeting, Framework Document Availability | 01/06/09 | 74 FR 411
Notice: Public Meeting, Data Availability | 04/05/10 | 75 FR 17080
NPRM Comment Period Extended | 04/14/10 | 75 FR 19297
Comment Period End | 05/28/10 |
NPRM | 08/00/13 |
Final Action | 12/00/13 |

Regulatory Flexibility Analysis Required: Yes.

Agency Contact: Charles Llenza, Office of Building Technologies Program, EE-2J, Department of Energy, Energy Efficiency and Renewable Energy, 1000 Independence Avenue SW., Washington, DC 20585, Phone: 202 586-2192, Email: charles.llenza@ee.doe.gov.

RIN: 1904-AB86

127. Energy Conservation Standards for Commercial Refrigeration Equipment

Legal Authority: 42 U.S.C. 6313(c)(5)

Abstract: DOE is reviewing and updating energy conservation standards, as required by the Energy Policy and Conservation Act, to reflect technological advances. All amended standards must be technologically feasible and economically justified. As required by EPCA, DOE published previously a final rule establishing energy conservation standards for ice-cream freezers, self-contained commercial refrigerators, freezers, and refrigerator-freezers without doors, for equipment manufactured after January 1, 2012. (74 FR 1092, Jan. 9, 2009) DOE is required to issue a final rule for this second review of energy conservation standards for commercial refrigeration equipment no later than January 1, 2013.

Timetable:

Action | Date | FR Cite
Notice: Public Meeting, Framework Document Availability | 05/06/10 | 75 FR 24824
Comment Period End | 06/07/10 |
Notice: Public Meeting, Data Availability | 03/30/11 | 76 FR 17573
Comment Period End | 05/16/11 |
NPRM | 08/00/13 |
Final Action | 02/00/14 |

Regulatory Flexibility Analysis Required: Yes.

Agency Contact: Charles Llenza, Office of Building Technologies Program, EE-2J, Department of Energy, Energy Efficiency and Renewable Energy, 1000 Independence Avenue SW., Washington, DC 20585, Phone: 202 586-2192, Email: charles.llenza@ee.doe.gov.

RIN: 1904-AC19

128. Test Procedures for Residential Refrigerators, Refrigerator-Freezers, and Freezers

Legal Authority: 42 U.S.C. 6293(b)(2)

Abstract: DOE is conducting a rulemaking to amend the existing test procedures for residential refrigerators, refrigerator-freezers, and freezers in order to clarify a number of testing issues and to add a test for measuring ice maker energy use.

Timetable:

Action | Date | FR Cite
NPRM | 07/00/13 |
Final Action | 07/00/14 |

Regulatory Flexibility Analysis Required: Yes.

Agency Contact: Lucas Adin, Project Manager, EE-2J, Department of Energy, Energy Efficiency and Renewable Energy, 1000 Independence Avenue SW., Washington, DC 20585, Phone: 202 287-1317, Email: lucas.adin@ee.doe.gov.

RIN: 1904-AC76

DEPARTMENT OF ENERGY (DOE)

Energy Efficiency and Renewable Energy (EE)

Final Rule Stage

129. Energy Efficiency Standards for Battery Chargers and External Power Supplies

Legal Authority: 42 U.S.C. 6295(u)

Abstract: In addition to the existing general definition of “external power supply,” the Energy Independence and Security Act of 2007 (EISA) defines a “class A external power supply” and sets efficiency standards for those products. EISA directs DOE to publish a final rule to determine whether the standards set for class A external power supplies should be amended. EISA also requires DOE to issue a final rule prescribing energy conservation standards for battery chargers, if technologically feasible and economically justified or to determine that no energy conservation standard is technically feasible and economically justified.

Timetable:

Action | Date | FR Cite
Notice: Public Meeting, Framework Document Availability | 06/04/09 | 74 FR 26816
Comment Period End | 07/20/09 |
Notice: Public Meeting, Data Availability | 09/15/10 | 75 FR 56021
Comment Period End | 10/15/10 |
Final Rule (Technical Amendment) | 09/19/11 | 76 FR 57897
NPRM | 03/27/12 | 77 FR 18478
Final Rule: Technical Amendment | 04/16/12 | 77 FR 22472
NPRM Comment Period End | 05/29/12 |
NPRM Comment Period Reopened | 06/29/12 | 77 FR 38743
Reopened NPRM Comment Period End | 07/16/12 |
Request for Information | 03/26/13 | 78 FR 18253
RFI Comment Period End | 05/28/13 |
Final Action | 09/00/13 |

Regulatory Flexibility Analysis Required: Yes.

Agency Contact: Jeremy Dommu, Office of Building Technologies Program, EE-2J, Department of Energy, Energy Efficiency and Renewable Energy, 1000 Independence Avenue SW., Washington, DC 20585, Phone: 202 586-9870, Email: jeremy.dommu@ee.doe.gov.

RIN: 1904-AB57

Department of Energy (DOE)

Energy Efficiency and Renewable Energy (EE)

Completed Actions

130. Energy Efficiency Standards for Distribution Transformers

Legal Authority: 42 U.S.C. 6317(a); 42 U.S.C. 6313(a)(6)(C)

Abstract: The current distribution transformer efficiency standards for medium-voltage-transformers apply to transformers manufactured or imported on or after January 1, 2010, and to low-voltage, dry type transformers manufactured or imported on or after January 1, 2007. As a result of a settlement agreement, DOE agreed to conduct a review of the standards for liquid-immersed and medium-voltage dry-type distribution transformers to determine if, pursuant to EPCA, the standards for these products need to be amended. As a result of the review, DOE published in the Federal Register a notice of proposed rulemaking which included new proposed standards for these products as well as low-voltage, dry-type transformers. Under the settlement agreement, DOE is obligated to publish in the Federal Register, no later than October 1, 2012, a final rule including any amendments to the standards for liquid-immersed and medium-voltage dry-type distribution transformers.

Completed:

Reason | Date | FR Cite
Final Action | 04/18/13 | 78 FR 23335
Final Action Effective | 06/17/13 |

Regulatory Flexibility Analysis Required: Yes.

Agency Contact: James Raba, Phone: 202 586-8654, Email: jim.raba@ee.doe.gov.

RIN: 1904-AC04

[FR Doc. 2013-17059 Filed 7-22-13; 8:45 am]

BILLING CODE 6450-01-P